DEPARTMENT OF COMMERCE

National Oceanic and Atmospheric Administration

[I.D. 011402G]

North Pacific Fishery Management Council; Public Meeting

AGENCY: National Marine Fisheries Service (NMFS), National Oceanic and Atmospheric Administration (NOAA), Commerce.

ACTION: Notice of a committee meeting.

SUMMARY: The North Pacific Fishery Management Council’s (Council) Halibut Subsistence Committee will meet in Anchorage, AK.

DATES: The meeting will be held on February 26, 2002.

ADDRESSES: The meeting will be held at the RurAL CAP Building, 731 Gambell Street, Anchorage, AK.

Council address: North Pacific Fishery Management Council, 605 W. 4th Ave., Suite 306, Anchorage, AK 99501-2252.

FOR FURTHER INFORMATION CONTACT: Jane DiCosimo, NPFMC, 907-271-2809.

SUPPLEMENTARY INFORMATION: The meeting will begin at 10 a.m. in the Board Room of the RurAL CAP Building, and conclude by 4:30 p.m. The committee has been tasked by the Council to provide recommendations on a proposed regulatory change to the halibut subsistence fishery regulations in Alaska that would allow proxy fishing in the halibut subsistence fishery in certain subsistence fishing areas.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council’s intent to take final action to address the emergency.

Special Accommodations

This meeting is physically accessible to people with disabilities. Requests for sign language interpretation or other auxiliary aids should be directed to Helen Allen, 907-271-2809, at least 5 working days prior to the meeting date.

Dated: January 28, 2002.
Richard W. Surdi,
Acting Director, Office of Sustainable Fisheries, National Marine Fisheries Service.

[FR Doc. 02-2406 Filed 1-30-02; 8:45 am]

BILLING CODE 3510-22-S